Proclamation 9290 of May 29, 2015

Lesbian, Gay, Bisexual, and Transgender Pride Month, 2015

By the President of the United States of America

A Proclamation

From the moment our Nation first came together to declare the fundamental truth that all men are created equal, courageous and dedicated patriots have fought to refine our founding promise and broaden democracy's reach. Over the course of more than two centuries of striving and sacrifice, our country has expanded civil rights and enshrined equal protections into our Constitution. Through struggle and setback, we see a common trajectory toward a more free and just society. But we are also reminded that we are not truly equal until every person is afforded the same rights and opportunities—that when one of us experiences discrimination, it affects all of us—and that our journey is not complete until our lesbian, gay, bisexual, and transgender (LGBT) brothers and sisters are treated like anyone else under the law.

Across our Nation, tremendous progress has been won by determined individuals who stood up, spoke out, and shared their stories. Earlier this year, because of my landmark Executive Order on LGBT workplace discrimination, protections for Federal contractors went into effect, guarding against discrimination based on sexual orientation and gender identity. The Federal Government is now leading by example, ensuring that our employees and contractors are judged by the quality of their work, not by who they love. And I will keep calling on the Congress to pass legislation so that all Americans are covered by these protections, no matter where they work.

In communities throughout the country, barriers that limit the potential of LGBT Americans have been torn down, but too many individuals continue to encounter discrimination and unfair treatment. My Administration supports efforts to ban the use of conversion therapy for minors because the overwhelming scientific evidence demonstrates that it can cause substantial harm. We understand the unique challenges faced by sexual and gender minorities—especially transgender and gender non-conforming individuals—and are taking steps to address them. And we recognize that families come in many shapes and sizes. Whether biological, foster, or adoptive, family acceptance is an important protective factor against suicide and harm for LGBTQ youth, and mental health experts have created resources to support family communication and involvement.

For countless young people, it is not enough to simply say it gets better; we must take action too. We continue to address bullying and harassment in our classrooms, ensuring every student has a nurturing environment in which to learn and grow. Across the Federal Government, we are working every day to unlock the opportunities all LGBT individuals deserve and the resources and care they need. Too many LGBTQ youth face homelessness and too many older individuals struggle to find welcoming and affordable housing; that is why my Administration is striving to ensure they have equal access to safe and supportive housing throughout life. We are updating our National HIV/AIDS Strategy to better address the disproportionate burden HIV has on communities of gay and bisexual men and transgender women. We continue to extend family and spousal benefits to legally married same-sex couples. And because we know LGBT rights are human rights, we are championing protections and support for LGBT persons around the world.

All people deserve to live with dignity and respect, free from fear and violence, and protected against discrimination, regardless of their gender identity or sexual orientation. During Lesbian, Gay, Bisexual, and Transgender Pride Month, we celebrate the proud legacy LGBT individuals have woven into the fabric of our Nation, we honor those who have fought to perfect our Union, and we continue our work to build a society where every child grows up knowing that their country supports them, is proud of them, and has a place for them exactly as they are.

NOW, THEREFORE, I, BARACK OBAMA, President of the United States of America, by virtue of the authority vested in me by the Constitution and the laws of the United States, do hereby proclaim June 2015 as Lesbian, Gay, Bisexual, and Transgender Pride Month. I call upon the people of the United States to eliminate prejudice everywhere it exists, and to celebrate the great diversity of the American people.

IN WITNESS WHEREOF, I have hereunto set my hand this twenty-ninth day of May, in the year of our Lord two thousand fifteen, and of the Independence of the United States of America the two hundred and thirty-ninth.

[FR Doc. 2015-13747

Filed 6-2-15; 11:15 am]

Billing code 3295-F5